DEPARTMENT OF ENERGY

Federal Energy Regulatory Commission

[Project No. 2694-002]

Nantahala Power and Light, a Division of Duke Engineering Company; Notice of Availability of Final Environmental Assessment

January 29, 2002.

In accordance with the National Environmental Policy Act of 1969 and the Federal Energy Regulatory Commission's (Commission) regulations, 18 CFR Part 380 (Order No. 486, 52 FR 47897), the Office of Energy Projects has reviewed the application for a new license for the existing and operating Queens Creek Hydroelectric Project FERC No. 2694-002, located on Queens Creek, in Macon County, North Carolina and has prepared a Final Environmental Assessment (FEA) for the project.

The FEA contains the staff's analysis of the potential environmental effects of the project and concludes that licensing the project, with appropriate environmental protective measures, would not constitute a major federal action that would significantly affect the quality of the human environment.

A copy of the FEA is on file with the Commission and is available for public inspection. The FEA may also be viewed on the web at http://www.ferc.gov using the “RIMS” link—select “Docket #” and follow the instructions (call 202-208-2222 for assistance).

For further information, contact Steve Kartalia at (202) 219-2942.

C. B. Spencer,
Acting Secretary.

[FR Doc. 02-2575 Filed 2-1-02; 8:45 am]

BILLING CODE 6717-01-P